SMALL BUSINESS ADMINISTRATION

Disaster Declaration # 10894; Oklahoma Disaster Number OK-00011

AGENCY: U.S. Small Business Administration.

ACTION: Amendment 1.

SUMMARY: This is an amendment of the Presidential declaration of a major disaster for Public Assistance Only for the State of Oklahoma (FEMA-1707-DR), dated 06/07/2007.

Incident: Severe Storms, Tornadoes, and Flooding.

Incident Period: 05/04/2007 through 05/11/2007.

Effective Date: 07/23/2007.

Physical Loan Application Deadline Date: 08/06/2007.

ADDRESSES: Submit Completed Loan Applications To: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Oklahoma, dated 06/07/2007, is hereby amended to include the following areas as adversely affected by the disaster.

Primary Counties:

Canadian: Cotton, Grady, Grant, Hughes, Logan, McClain, McIntosh, Pawnee, Tillman.

All other information in the original declaration remains unchanged.

(Catalog of Federal Domestic Assistance Number 59008)

Herbert L. Mitchell,
Associate Administrator for Disaster Assistance.

[FR Doc. E7-14969 Filed 8-1-07; 8:45 am]

BILLING CODE 8025-01-P